Title 3—

The President

Proclamation 9479 of August 31, 2016

National Alcohol and Drug Addiction Recovery Month, 2016

By the President of the United States of America

A Proclamation

Every day, millions of Americans prove that recovery from alcohol and substance use disorders is possible—yet at the same time, millions more are struggling with the disease of addiction. These individuals are our family members, friends, and neighbors, and when they are not able to get the help they need, our communities and our country are not as strong as they can be. It is up to all of us to help our loved ones seek life-saving services when needed and steer them toward recovery. Throughout this month, we celebrate the successes of all those who know the transformative power of recovery, and we renew our commitment to providing the support, care, and treatment that people need to forge a healthier life.

Substance use disorder, commonly known as addiction, is a disease of the brain, and many misconceptions surrounding it have contributed to harmful stigmas that can prevent individuals from seeking the treatment they need. By treating substance use disorders as seriously as other medical conditions, with an emphasis on prevention and treatment, people can recover. This month's theme is, “Join the Voices for Recovery: Our Families, Our Stories, Our Recovery!”. Focusing on the importance of family support throughout recovery, it invites families, loved ones, and other individuals to share their stories and triumphs in fighting substance use disorders to inspire others that may follow in their footsteps. I encourage all Americans looking for assistance to use the “Treatment Locator” tool at www.SAMHSA.gov or call 1-800-662-HELP.

This disease can touch any American in any community, and my Administration has made combatting substance use disorders a priority. Under the Affordable Care Act, insurance companies must now cover substance use disorder services as essential health benefits. The Mental Health Parity and Addiction Equity Act requires health plans that cover mental health and substance use disorder treatment to provide coverage that is comparable to that of medical and surgical care. Through our National Drug Control Strategy—a 21st century approach to reducing drug use and its consequences—we have promoted evidence-based health and safety initiatives that aim to prevent drug use, increase opportunities for early intervention and integrated treatment in health care, and support recovery. In response to our Nation's opioid overdose epidemic, we are highlighting tools that can help reduce drug use and overdose, such as evidence-based prevention programs, prescription drug take-back events, medication-assisted treatment for people with opioid use disorders, and the overdose reversal drug naloxone. That is why, in my most recent budget proposal, I proposed investing $1 billion to expand access to treatment for prescription opioid misuse and heroin use. I will continue urging the Congress to fund treatment like I have proposed—because if they fund these efforts, we can help more individuals across our country seek help, complete treatment, and sustain recovery.

During National Alcohol and Drug Addiction Recovery Month, let us thank health care professionals, support groups, and all those dedicated to helping individuals in need find assistance and reclaim their lives. Let us continue working to address substance use disorders in our communities and promote the health, safety, and prosperity of the American people.

NOW, THEREFORE, I, BARACK OBAMA, President of the United States of America, by virtue of the authority vested in me by the Constitution and the laws of the United States, do hereby proclaim September 2016 as National Alcohol and Drug Addiction Recovery Month. I call upon the people of the United States to observe this month with appropriate programs, ceremonies, and activities.

IN WITNESS WHEREOF, I have hereunto set my hand this thirty-first day of August, in the year of our Lord two thousand sixteen, and of the Independence of the United States of America the two hundred and forty-first.

[FR Doc. 2016-21750

Filed 9-7-16; 8:45 am]

Billing code 3295-F6-P